DEPARTMENT OF AGRICULTURE

Agricultural Marketing Service

7 CFR Part 51

[Docket Number FV-98-304 C]

Pistachio Nuts in the Shell, and Shelled Pistachio Nuts; Grade Standards

AGENCY: Agricultural Marketing Service, USDA.

ACTION: Correcting amendments.

SUMMARY: This document contains corrections to final regulations which were published August 22, 2003 (68 FR 50681). The regulations related to United States Standards for Grades of Pistachio Nuts in the Shell, and the United States Standards for Grades of Shelled Pistachio Nuts.

EFFECTIVE DATE: December 23, 2004.

FOR FURTHER INFORMATION CONTACT: David Priester, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; e-mail David.Priester@usda.gov.

SUPPLEMENTARY INFORMATION:

Background

The final regulations that are the subject of this correction revised §§ 51.2544, Tolerances, and 51.2557, Tolerances.

Need for Correction

As published, minor insect injury or vertebrate injury was inadvertently omitted from regulatory text § 51.2544, Table II paragraph (b) and § 51.2557, Table I paragraph (b). Additionally, mold, rancid, decay was incorrectly listed in § 51.2544, Table II paragraph (b)(1), and § 51.2557, Table I paragraph (b)(1). This document corrects those errors. The corrected tables conform to the definitions of serious damage in § 51.2547 and § 51.2560.

List of Subjects in 7 CFR Part 51

Agricultural commodities, Food grades and standards, Fruits, Nuts, Reporting and recordkeeping requirements, Trees, Vegetables.

Accordingly, 7 CFR is amended by making the following corrections:

PART 51—FRESH FRUITS, VEGETABLES AND OTHER PRODUCTS (INSPECTION, CERTIFICATION, AND STANDARDS)

1. The authority citation for 7 CFR part 51 continues to read as follows:

Authority: 7 U.S.C. 1621-1627.

2. In § 51.2544, Table II is revised to read as follows:

§ 51.2544 Tolerances.

* * * * *

Table II.—Tolerances
Factor internal (kernel) defects (tolerances by weight) | U.S. fancy (percent) | U.S. extra No. 1 (percent) | U.S. No. 1 (percent) | U.S. select (percent) | U.S. artificially opened (percent) | U.S. non-split (percent)
(a) Damage | 3 | 6 | 6 | 6 | 6 | 6
(b) Serious Damage (Minor Insect or Vertebrate Injury, Mold, Rancid, Decay) | 3 | 4 | 4 | 4 | 4 | 4
(1) Insect Damage, included in (b) | 1 | 2 | 2 | 2 | 2 | 2
(c) Total Internal Defects | 4 | 8 | 9 | 9 | 9 | 9

* * * * *

3. In § 51.2557, Table I is revised to read as follows:

§ 51.2557 Tolerances.

* * * * *

Table 1.—Tolerances
Factor (tolerances by weight) | U.S. fancy (percent) | U.S. extra No. 1 (percent) | U.S. No. 1 (percent)
(a) Damage | 2.0 | 2.5 | 3.0
(b) Serious Damage (Minor Insect or Vertebrate Injury, Mold, Rancid, Decay) | 1.5 | 2.0 | 2.5
(1) Insect Damage, included in (b) | .3 | .4 | .5
(c) Foreign Material | .03 | .05 | .1

Dated: December 17, 2004.
A.J. Yates,
Administrator, Agricultural Marketing Service.

[FR Doc. 04-28056 Filed 12-22-04; 8:45 am]

BILLING CODE 3410-02-P